DEPARTMENT OF COMMERCE

Bureau of the Census

[Docket Number 000531161-0161-01]

RIN 0607-ZA04

American Indian and Alaska Native Areas (AIANAs) Geographic Program for Census 2000

AGENCY: Bureau of the Census, Commerce.

ACTION: Notice of final program criteria.

SUMMARY: This notice provides the final program criteria used to designate American Indian and Alaska Native areas (AIANAs) for inclusion in Census 2000 and other U.S. Census Bureau demographic programs, and describes the changes from the criteria used for the 1990 census. It also provides background information and a list of definitions of key terms used in the criteria. This program applies to all AIANAs in the United States. This notice includes the responses to comments received regarding the “notice of proposed program” issued in the Federal Register on October 21, 1999 (64 FR 56732).

For Census 2000, the U.S. Census Bureau is using the collective term AIANAs to refer to:

• Alaska Native Regional Corporations (ANRCs),

• Alaska Native village statistical areas (ANVSAs),

• Federally recognized American Indian reservations,

• American Indian tribal subdivisions,

• American Indian off-reservation trust lands,

• Tribal designated statistical areas (TDSAs),

• Oklahoma tribal statistical areas (OTSAs) (formerly “tribal jurisdiction statistical areas (TJSAs)”) ¹,

¹ The designation “tribal jurisdiction statistical area” was changed to Oklahoma tribal statistical area to avoid the misperception that such designation constituted recognition or confirmation by the federal government of a particular legal status. The new designation is defined in the “Definitions of Key Terms” section.

State recognized American Indian reservations, and State designated American Indian statistical areas (SDAISAs).

The above include both legally established geographic entities and geographic entities created solely for statistical reporting (see “Definitions of Key Terms” in the SUPPLEMENTARY INFORMATION section).

Prior to the 1980 census, the U.S. Office of Management and Budget established an ad hoc interagency committee on the American Indian and Alaska Native populations to identify and examine how the federal government could provide improved data for these populations. One of the primary tasks of the interagency committee, which included the U.S. Census Bureau and federal agencies with responsibility for funding, planning, or administering programs for these populations, was to identify the content requirements and geographic entities for which 1980 census data were needed to fulfill federal legislative and program administration requirements. In addition to the federal effort, the Census Bureau sought information on data needs from American Indian and Alaska Native tribal governments and communities, as well as from state governments.

To meet the diverse data requirements this process documented, as well as provide general-purpose statistics, the Census Bureau needed to identify and define new geographic areas reflecting, to the extent possible, legally established entities, unique historical tribal homelands, and current settlements of tribal activity.

The U.S. Census Bureau's primary purpose for delineating boundaries for geographic entities is to develop the best possible geographic frame of reference for tabulation and presentation of statistical information. While aware of the uses of data by other federal agencies for program purposes, the Census Bureau does not create geographic frames of reference based on specific federal agency uses or needs. The Census Bureau strongly encourages other federal, state, and other types of agencies to review and revise their formulas, if needed, to better administer specific programs. The challenge of developing geographic frames of reference for AIANAs was made more difficult by the lack of one definitive source of information and the differing legal circumstances and geographic settlement patterns of particular tribes. There are both federally recognized and state recognized tribes. Some have reservations and/or established land bases, while others do not have established land bases, even though they conduct tribal activity within a geographically definable area.

For tribal governments with reservations and/or off-reservation trust lands existing under law today, the U.S. Census Bureau had to develop a mechanism to obtain and maintain the most current, legally established boundaries for data tabulation purposes. Because some tribes currently do not have a legally established land base (reservation or off-reservation trust lands) with clearly delineated boundaries and legally recognized authority, the Census Bureau has developed a set of statistically equivalent entities. In doing so, the Census Bureau has focused on the overall objective—producing statistics for a geographically defined entity that has significance for each tribal government as well as for the federal and state agencies administering tribal programs benefitting the tribe.

With this as the objective, the U.S. Census Bureau developed the underlying premise that geographic statistical entities should reflect, to the extent reasonably possible, the area in which there is structured/organized tribal activity and a concentration of individuals residing who identify with the particular tribe conducting such activities. These criteria are, of necessity, somewhat amorphous because of the lack of a clearly defined land base for some recognized tribes, and because individuals who identify with other tribes may be concentrated in the same areas.

The effort to produce meaningful data for American Indian and Alaska Native tribal governments has been an evolutionary process that is best evidenced by the steps the Census Bureau has taken for the 1980 and 1990 censuses. A brief description of those procedures is included under the “Background” heading in the supplementary information section. This historic narrative is followed by a description of the plans for Census 2000.

EFFECTIVE DATE: July 24, 2000.

FOR FURTHER INFORMATION CONTACT: For information about the U.S. Census Bureau's geographic programs, contact Mr. Robert Marx, Chief, Geography Division, Bureau of the Census, Room 651, WP-1, Washington, DC 20233-7400, telephone (301) 457-2131, or e-mail (rmarx@geo.census.gov). For information about the statistical data the U.S. Census Bureau will tabulate from Census 2000 for American Indians and Alaska Natives, contact Dr. Jorge del Pinal, Assistant Division Chief for Special Populations, Population Division, Bureau of the Census, Room 2011, FB-3, Washington, DC 20233-8800, telephone (301) 457-4875, or e-mail (jorge.h.delpinal@ccmail.census.gov).

SUPPLEMENTARY INFORMATION: Pursuant to title 13, United States Code, section 141(a), the Secretary of Commerce, as delegated to the U.S. Census Bureau, undertakes every ten years the decennial census “* * * in such form and content as he may determine. * * *” This language gives wide discretion to the Census Bureau in taking the census. The Census Bureau depicts AIANAs solely for purposes of presenting general-purpose statistical data from the decennial census of population and housing and from other large scale surveys. It does not take into account or attempt to anticipate any nonstatistical uses that may be made of AIANAs, nor will the Census Bureau modify the definition of AIANAs to meet the requirements of the programs of other agencies. Where disputes occur between tribes because of overlapping boundaries, the Census Bureau encourages the respective tribal officials to reach a mutually acceptable agreement for the purpose of presenting statistical data. However, there may be instances in which the Census Bureau cannot depict the boundaries submitted to the satisfaction of all parties because the boundaries are in dispute. Representation of boundaries on Census Bureau maps and in Census Bureau databases is solely for the purpose of data collection and data tabulation, and does not convey or confer any rights to land ownership or jurisdictional status.

The U.S. Census Bureau will tabulate data from Census 2000 for the total population and for the American Indian and Alaska Native populations within each ANRC, ANVSA, federally recognized American Indian reservation, off-reservation trust land, tribal subdivision, TDSA, OTSA, state recognized American Indian reservation and SDAISA described in this notice. Data associated with at least 30 of the most populous tribes will be tabulated within selected geographic entities. Data for other tribes within specific geographic entities may be available only by a special tabulation.

Responses to Comments

The U.S. Census Bureau issued a notice of proposed program and request for public comment in a Federal Register notice on Thursday, October 21, 1999 (64 FR 56732). That Notice solicited comments about the Census Bureau's proposed geographic program for AIANAs for Census 2000. The Census Bureau received written comments from four tribal governments and one individual. The comments ranged from historical clarification to requests for changes in program criteria. The Census Bureau provides specific responses below to substantive comments and will incorporate all editorial comments meant to clarify or improve the text without a specific response.

Comment 1: An objection that the proposed program includes Alaska Native Regional Corporations (ANRCs).

Response 1: The U.S. Census Bureau will continue to contact the nonprofit associations affiliated with each ANRC to seek assistance in reviewing the boundaries of the ANRCs and in defining boundaries for the Alaska Native village statistical areas (ANVSAs). Officials for the ANRC always are responsible for reviewing the legal ANRC boundaries. The assistance of the ANRC officials is helpful for delineating ANVSAs when there is no response from the tribal leaders of the Alaska Native villages to the Census Bureau's request for the review of their ANVSA boundaries. The Census Bureau is clarifying in the final notice that if both an Alaska Native village (ANV) official and a nonprofit ANRC official provide a boundary to the Census Bureau for an ANVSA, the Census Bureau will use the boundary provided by the ANV official as long as it meets the boundary criteria described in this notice.

Comment 2: Three of the four tribal governments that responded to the notice provided comments that centered around how the Census Bureau plans to define Oklahoma tribal statistical areas (OTSAs). Numerous comments from these governments questioned why the Census Bureau does not use the boundaries of the former reservations as the boundaries for the OTSAs. The comments contended that these boundaries, as documented in the land records held by the Bureau of Indian Affairs (BIA), should represent the “present day recognized former reservations in accordance with the last treaties on file.”

Response 2: The U.S. Census Bureau uses the boundaries of former reservations as the boundaries for OTSAs with appropriate modifications reflecting agreements with neighboring tribes. The Census Bureau configures statistical entities in Oklahoma in this manner because most tribes continue to reside upon and identify with former reservations. Based on comments to this notice, as well as feedback the Census Bureau received at a meeting held in July 1999 with tribal governments, it is apparent that the explanation of OTSAs in the original notice, and the explanation of TJSAs in the materials used for the 1990 census, caused some confusion. To clarify, the Census Bureau is revising the criteria for establishing an OTSA. For Census 2000, an OTSA will be a tribal statistical entity delineated by those federally recognized tribes in Oklahoma that have no current reservation, but had a former reservation in Oklahoma. The boundary for an OTSA should conform to the boundary of the former reservation, except where modified by agreements between tribes for statistical data presentation purposes.

Comment 3: The Census Bureau should use the metes and bounds descriptions provided by either the federally recognized tribal government or by the BIA to determine the boundaries for an OTSA.

Response 3: The U.S. Census Bureau requires that boundaries for OTSAs, as well as other geographic entities, be provided via a graphic representation rather than by a written metes and bounds description because the Census Bureau's geographic database does not contain the information required to accurately transfer written descriptions. The Census Bureau will provide maps displaying boundaries for AIANAs used in the 1990 census for the purpose of reviewing and revising the boundaries of each AIANA to be included in Census 2000. The Census Bureau also accepts maps provided by tribal governments or the BIA to depict boundaries in its geographic database.

Comment 4: The Census Bureau should delineate objective standards for the proposed geographic areas. The area definitions should be linked specifically to the federal programs served by defining the area.

Response 4: The U.S. Census Bureau is not required to link the establishment of a geographic entity to federal, tribal, or state laws. Wherever possible, the Census Bureau relies on objective criteria to establish geographic frames of reference for the tabulation of statistical data. However, in some instances, such as those in which a tribe has no land base or for which there was no former reservation, the Census Bureau must rely on more subjective information from the tribes. The Census Bureau portrays the boundaries of both legal and statistical entities for the sole purpose of tabulating data from the decennial census and its other large-scale surveys. For legal entities, the Census Bureau is committed to using the most accurate governmental unit boundaries established by law as of January 1 of the census year. For statistical entities, the Census Bureau is committed to delineating the areas to be included in partnership with tribal, state, and local officials using criteria developed in an open process. Statistical entities, other than the OTSAs, which rely on boundaries of former reservations, must rely upon more subjective standards—primarily those based on input from tribal, state, and local officials. Some examples of statistical geographic entities other than those in the AIANA program that were developed by the Census Bureau, reviewed by public comment in the Federal Register, and delineated in partnership with local or tribal agencies and officials interested in using the data tabulated for those areas are: census tracts, block groups, and census designated places.

The statistical entities defined by the Census Bureau in partnership with tribal and local agencies are created for the primary purpose of providing the best possible geographic frame of reference for tabulating and presenting statistical information. The Census Bureau has determined that presenting the data in this manner serves the needs of tribal governments as well as those federal and state agencies administering tribal programs benefitting the tribe.

Comment 5: Why does the Census Bureau propose including tribal subdivisions and what federal laws are associated with these areas?

Response 5: Tribal subdivisions are internal units of self-government or administration that serve social and/or economic purposes for American Indians on reservations and OTSAs. The U.S. Census Bureau is working with tribes that have such subdivisions to delineate tribal subdivisions for Census 2000 in order to provide data for these additional legal or administrative areas. Providing data for tribal subdivisions is analogous to counties within states or, in certain states, minor civil divisions within county. The Census Bureau is not required to link the establishment of a geographic entity to federal, tribal, or state laws.

Executive Order 12866

This notice does not meet the criteria for a “significant regulatory action” as specified in Executive Order 12866.

Regulatory Flexibility Act

Pursuant to the provisions of the Regulatory Flexibility Act (5 U.S.C. 605(b)), the Assistant General Counsel for Legislation and Regulation, Department of Commerce, certified to the Chief Counsel, Small Business Administration, that this notice will not have a significant economic impact on a substantial number of small entities. This notice sets forth the U.S. Census Bureau's final program to designate AIANAs for Census 2000. The program will be used by the Census Bureau to tabulate and disseminate statistical data it collects for AIANAs in the decennial census and its other large-scale surveys, and these data presentations are solely for statistical purposes.

Paperwork Reduction Act

Notwithstanding any other provision of law, no person is required to respond to, nor shall a person be subject to, the requirements of the Paperwork Reduction Act unless that collection of information displays a current valid OMB Control Number. Send comments regarding the burden estimate or any other aspect of this collection of information, including suggestions for reducing this burden, to the Bureau of Census Desk Officer, Office of Information and Regulatory Affairs, Office of Management and Budget, Washington, D.C. 20503.

Definitions of Key Terms

Alaska Native Claims Settlement Act (ANCSA)—Legislation (Pub. L. 92-203) enacted in 1972 recognized the Alaska Native villages and established Alaska Native Regional Corporations (ANRCs) to conduct business and nonprofit activities by and for Alaska Natives.

Alaska Native Regional Corporation (ANRC)—A corporate entity organized to conduct both business and nonprofit affairs of Alaska Natives pursuant to the ANSCA. Twelve ANRCs are geographic entities that cover most of the State of Alaska (the Annette Islands Reserve is excluded from any ANRC). (A thirteenth ANRC represents Alaska Natives who do not live in Alaska and do not identify with any of the 12 corporations; the Census Bureau does not provide data for this ANRC because it has no geographic extent.) The boundaries of ANRCs have been legally established.

Alaska Native village (ANV)—A type of local governmental unit in Alaska that constitutes an association, band, clan, community, group, tribe, or village recognized pursuant to the ANCSA of 1972 (Pub. L. 92-203). Because ANVs do not have boundaries that are easily locatable, the Census Bureau does not delimit ANVs for the purpose of presenting statistical data. Instead, the Census Bureau presents statistical data for Alaska Native village statistical areas (ANVSAs), which represent the settled portion of ANVs.

Alaska Native village statistical area (ANVSA)—A statistical entity that represents the densely settled portion of an ANV. ANVSAs are reviewed and delineated by officials of the ANV (or officials of the ANRC in which the ANV is located if no ANV official chooses to participate in the delineation process) solely for the purpose of presenting statistical data.

American Indian reservation—Federal—An area that has been set aside by the United States for the use of the tribe, the exterior boundaries of which are more particularly defined in the final tribal treaty, agreement, Executive Order, federal statute, Secretarial Order, or judicial determination. The Census Bureau recognizes reservations as territory over which American Indians have primary governmental authority. These entities are known as colonies, communities, pueblos, rancherias, ranches, reservations, reserves, tribal towns, and tribal villages. The Bureau of Indian Affairs (BIA) maintains a list of federally recognized tribal governments.

American Indian reservation—State—Some state governments have established reservations for tribes recognized by the state. A governor-appointed state liaison provides the name and boundary for each state recognized American Indian reservation to the Census Bureau.

American Indian tribal subdivision—An administrative subdivision of a federally recognized American Indian reservation, off-reservation trust lands, or an Oklahoma tribal statistical area (OTSA), known as an area, chapter, community, or district. These entities are internal units of self-government or administration that serve social, cultural, and/or economic purposes for the American Indians on the reservation, off-reservation trust lands, or OTSAs.

American Indian trust land—Area for which the United States holds fee title in trust for the benefit of a tribe (tribal trust land) or for an individual Indian (individual trust land). Trust lands can be alienated or encumbered only by the owner with the approval of the Secretary of the Interior or his/her authorized representative. Trust lands may be located on or off a reservation. The Census Bureau recognizes and tabulates data for reservations and off-reservation trust lands because the tribe has primary governmental authority over these lands. Primary tribal governmental authority generally is not attached to tribal lands located off the reservation until the lands are placed in trust. In Census Bureau data tabulations, off-reservation trust lands always are associated with a specific federally recognized reservation and/or tribal government.

Boundary and Annexation Survey (BAS)—A Census Bureau survey of counties/county equivalents, minor civil divisions (MCDs), incorporated places, ANRCs, and federally recognized American Indian reservations and/or off-reservation trust lands. Its purpose is to determine, solely for the purposes of data collection and data tabulation, the complete inventory and the correct names, legal descriptions, official status, and official boundaries of the legal entities with primary governmental jurisdiction over certain lands within the United States as of January 1 of the survey year. The BAS also collects specific information to document the legal actions that established a boundary or imposed a boundary change.

Bureau of Indian Affairs (BIA)—The primary agency of the federal government, located within the Department of the Interior, charged with the trust responsibility between the federal government and federally recognized American Indian and Alaska Native tribal governments and communities.

Fee land (or land in fee simple status)—Area owned in fee simple status (total ownership, not in trust) by a tribe recognized by the federal government or individual members of a tribe. The title to such land is held by the tribe or an individual, and tracts and/or parcels of land can be alienated or encumbered by the owner without the approval of the Secretary of the Interior or his/her authorized representative. This type of land may be located on or off a federally recognized reservation. The Census Bureau does not identify fee land (or land in fee simple status) as a specific geographic category.

Historic Areas of Oklahoma—A geographic area established by the Census Bureau for the 1980 census that encompassed the former American Indian reservations that had legally established boundaries during the period 1890 through 1907, but whose lands were divided by allotment agreements during the period preceding the establishment of Oklahoma as a state in 1907. The Historic Areas of Oklahoma excluded all territory that was in the Census Bureau's 1980 urbanized areas. The 1980 census tabulated data for this single entity, which was replaced for the 1990 census by the designation tribal jurisdiction statistical areas (TJSAs), reflecting, in general, a presentation of the data by individual former reservations. The TJSAs defined for the 1990 census included territory without regard to urbanized areas.

Joint use area—The term, as applied to any AIANA by the U.S. Census Bureau, means that the area is administered jointly and/or claimed by two or more American Indian tribes. The Census Bureau designates both legal and statistical joint use areas as unique geographic entities for the purpose of presenting statistical data.

Legal entity—A geographically defined governmental entity whose origin, boundary, name, and description result from charters, laws, treaties, or other governmental action. Examples are the United States, states and statistically equivalent entities, counties and statistically equivalent entities, MCDs, incorporated places, congressional districts, American Indian reservations and off-reservation trust lands, ANRCs, and American Indian tribal subdivisions. The legal entities recognized for Census 2000 are those that exist on January 1, 2000. (The U.S. Census Bureau does not recognize ANVs for the purpose of presenting statistical data. The Census Bureau presents statistical data for ANVSAs, which represent the settled portion of the ANVs.)

Oklahoma tribal statistical area (OTSA)—A statistical entity identified and delineated by the U.S. Census Bureau in consultation with federally recognized American Indian tribes that have no current reservation, but that had a former reservation in Oklahoma. The boundary of an OTSA will be that of the former reservation in Oklahoma, except where modified by agreements with neighboring tribes for statistical data presentation purposes. OTSA replaces the 1990 census term tribal jurisdiction statistical area (TJSA).

Restricted fee land—Area for which an individual American Indian or a tribe holds fee simple title subject to limitations or restrictions against alienation or encumbrances as set forth in the title and/or by operation of law. Restricted fee lands may be located on or off a federally recognized reservation. The Census Bureau does not identify restricted fee lands as a specific geographic category.

State designated American Indian statistical area (SDAISA)—A statistical entity for state recognized American Indian tribes that do not have a state recognized land base (reservation). SDAISAs are identified and delineated for the Census Bureau by a designated state official. SDAISAs generally encompass a compact and contiguous area that contains a concentration of individuals who identify with a state recognized American Indian tribe and in which there is structured or organized tribal activity.

Statistical entity—A specially defined geographic entity for which the Census Bureau tabulates data. Statistical entity boundaries are not established by law and their designation by the Census Bureau, neither conveys nor confers legal ownership, entitlement, or jurisdictional authority. Examples are metropolitan areas, urbanized areas, census county divisions, census designated places, census tracts, census block groups, census blocks, tribal designated statistical areas (TDSAs), SDAISAs, and OTSAs—formerly called tribal jurisdiction statistical areas (TJSAs)—and ANVSAs.

Subreservation area—See “American Indian tribal subdivision.”

Surface estate—That portion of the interest, ownership, or property in land that resides on the earth's surface, as distinguished from the subsurface estate (for example, mineral rights). The Census Bureau collects the boundaries of off-reservation trust lands where the surface estate is held in trust; it does not collect the boundaries where only the subsurface estate is held in trust.

Tribal designated statistical area (TDSA)—A statistical entity identified and delineated for the Census Bureau by a federally recognized American Indian tribe that does not currently have a legally established land base (reservation and/or off-reservation trust lands). A TDSA encompasses a compact and contiguous area that contains a concentration of individuals who identify with a federally recognized American Indian tribe and in which there is structured or organized tribal activity.

Tribal jurisdiction statistical area (TJSA)—A statistical entity identified and delineated for the 1990 census to provide a geographic frame of reference for the presentation of statistical data. TJSA boundaries were required to follow census block boundaries and were based upon the boundaries of the former reservations of federally recognized tribes in Oklahoma. The 1990 census TJSAs essentially were defined in the same manner as planned for the OTSAs in Census 2000; the descriptive designation is being changed for 2000 to correct the impression that these statistical entities conveyed or conferred any jurisdictional authority.

Background

1970 Census and Earlier

The U.S. Census Bureau had no program specifically designed to recognize or tabulate data for AIANAs in conjunction with the 1970 or any earlier decennial census.

1980 Census

Although the U.S. Census Bureau did present data from the 1970 census for 115 American Indian reservations, the Census Bureau began to report data systematically for American Indian and Alaska Native areas (AIANAs) in conjunction with the 1980 census, when it identified and presented data for a more complete inventory of American Indian reservations. The Census Bureau worked with the Bureau of Indian Affairs (BIA) and state officials to identify American Indian reservations and to obtain accurate maps depicting their boundaries, and with officials in Alaska to determine locations for Alaska Native Villages (ANVs). American Indian off-reservation tribal trust lands were identified for the first time as geographic entities. To provide data for tribes recognized by the federal government in Oklahoma that no longer had a reservation, the Census Bureau identified a single geographic entity, called the Historic Areas of Oklahoma, that excluded the territory in Census Bureau-defined urbanized areas. Tribes also identified American Indian subreservation areas as geographic entities; these are internal units of self-government or administration, such as chapters, communities, and districts.

1990 Census

For the 1990 census, the U.S. Census Bureau expanded and improved its geographic identification of American Indian reservations and off-reservation trust lands, of selected areas within ANVs, and increased the involvement of American Indian and Alaska Native officials in the geographic delineations. The Census Bureau also consulted with the Census Advisory Committee on the American Indian and Alaska Native populations. For those tribes identified by the BIA as currently having a legally established land base, defined as a reservation or off-reservation trust lands, the Census Bureau continued to use boundaries certified by the BIA for census purposes. The Census Bureau did not provide data for subreservation areas. It began to report data for American Indian off-reservation individual trust lands (in addition to the off-reservation tribal trust lands) and for Alaska Native Regional Corporations (ANRCs). It developed Alaska Native village statistical areas (ANVSAs) to represent the settled portion of ANVs because of the difficulty in obtaining and representing meaningful boundaries for the ANVs. It established a new geographic entity called the tribal designated statistical area (TDSA) to identify lands associated with federally and state recognized tribes that had no current land base (a reservation and/or off-reservation trust land). The Census Bureau replaced the single-entity Historic Areas of Oklahoma with the several tribal jurisdiction statistical areas (TJSAs). Because tribes in Oklahoma have, for the most part, continued to live on and conduct tribal activities on the lands that were former reservations, most TJSAs delineated for the 1990 census had boundaries that were very similar to the former reservation boundaries. The criteria established by the Census Bureau for the 1990 census included a statement that TJSAs cannot include any reservation or trust lands. In fact, most of the tribes in Oklahoma do have trust lands, but because the parcels are small and in many cases scattered, the 1990 census program allowed one or more tribes to identify as a TJSA, a larger contiguous area associated with the tribe(s), generally that area constituting a former reservation. The TJSAs defined for the 1990 census included territory within Census Bureau-defined urbanized areas.

Census 2000

For Census 2000, the U.S. Census Bureau continues to work with tribal governments and federal and state agencies, as well as the Census Advisory Committee on the American Indian and Alaska Native populations, to improve its geographic identification of AIANAs. For federally recognized tribes, the Census Bureau offered programs to collect updated boundaries directly from the tribal governments using the 1990 census boundaries as a baseline. In 1997, it undertook the Tribal Review Program to enable officials of all federally recognized American Indian tribes with a land base to review and update the maps covering their lands for Census 2000. This involved checking the boundaries of reservations and/or off-reservation trust lands that had been provided to the Census Bureau for the 1990 census by the BIA; providing suggestions for Census 2000 block boundaries in the Block Definition Project; and updating and correcting the road and other base features shown in the Census Bureau's database. The Tribal Review Program also gave tribes in Oklahoma the opportunity to review the delineation of their 1990 census TJSAs.

Beginning in 1998, the U.S. Census Bureau included federally recognized American Indian tribes with a land base in its annual Boundary and Annexation Survey (BAS). The Census Bureau began including ANRCs in the BAS in 1999. All American Indian entities included in the 2000 BAS also will be included in the Census 2000 Boundary Validation Program. This program will enable governmental officials responsible for legal entities to review the Census Bureau's depiction of the boundaries they submitted and provide any corrections needed to ensure those boundaries are shown correctly as of January 1, 2000 (the reference date of the boundaries used for Census 2000 statistical data tabulation). The Census 2000 Boundary Validation Program is scheduled to begin in May 2000 and extend through July 2000. Also, to support tribal requests for data by administrative subdivisions, the Census Bureau will offer tribal officials the opportunity to delineate their chapters, communities, or districts as American Indian tribal subdivisions (similar to the 1980 census subreservation areas).

Also beginning in 1998, the Census Bureau included federally recognized tribes with a land base in its Local Update of Census Addresses (LUCA) program and the ensuing New Construction Program. Although the primary purpose of these programs was to ensure the completeness of the Census 2000 address list within each jurisdiction, the LUCA program also provided an additional opportunity for tribal governments to add or correct roads, road names, and to identify the need for additional boundary corrections.

In addition to offering the above programs, the U.S. Census Bureau has introduced a new geographic entity, the State designated American Indian statistical area (SDAISA); has made some changes to the TDSA criteria; and has changed the definition and criteria for Oklahoma tribal statistical area (OTSAs)—formerly TJSAs. See below for details.

Criteria

A. Legal Entity Criteria for Census 2000

1. The U.S. Census Bureau will use the following criteria for AIANAs that are legal entities as of January 1, 2000.

a. Alaska Native Regional Corporations (ANRCs)

ANRCs are corporate entities organized to conduct both the business and nonprofit affairs of Alaska Natives. The ANRC boundaries were established by the Department of the Interior pursuant to the Alaska Native Claims Settlement Act (ANCSA), and divide Alaska (excluding the Annette Islands Reserve) into 12 geographic regions, with each region composed as far as practicable of Natives who have a common heritage and who share common interests. (A thirteenth ANRC represents Alaska Natives who do not live in Alaska and do not identify with any of the 12 corporations; the Census Bureau does not provide data tabulations for this ANRC.) As part of the 1999 and 2000 BAS, representatives of the 12 nonprofit ANRCs were offered the opportunity to review and correct the ANRC boundaries depicted by the Census Bureau.

The U.S. Census Bureau will identify the ANRCs with the names established under the ANCSA and reviewed by the ANRC officials during the 1999 and 2000 BAS.

b. American Indian Reservation—Federal

An area that has been set aside by the United States for use of the tribe, the exterior boundaries of which are more particularly defined in the final tribal treaty, agreement, Executive Order, federal statute, Secretarial Order, or judicial determination. The Census Bureau recognizes reservations as territory over which American Indians have primary governmental authority. The reservation of a tribe recognized by the federal government may be located in more than one state. The Census Bureau obtains verification of and changes to the boundaries of federally recognized American Indian reservations and off-reservation trust lands directly from the tribes through the annual BAS. Acceptance of boundary changes requires legal documentation, such as a statute or court order. This documentation is required to support any and all changes to the 1990 census boundary as certified to the Census Bureau by the BIA in preparation for the 1990 census, as well as to confirm the absence of any litigation involving these boundaries. If there is a question about the 1990 census boundary, the Census Bureau will consult with other responsible federal agencies for resolution of the matter.

The U.S. Census Bureau will identify each American Indian reservation with the name submitted and reviewed by the tribal government during the BAS.

c. American Indian Reservation—State

Some state governments have established reservations for tribes recognized by the state. A governor-appointed state liaison provides the names and boundaries for state recognized American Indian reservations to the Census Bureau. State reservation boundaries cannot cross state lines.

The U.S. Census Bureau will identify each state American Indian reservation with the name submitted by the state liaison providing the boundary for the area. The state reservation name should reflect the name cited in the legal land records establishing the state recognized reservation.

d. American Indian Off-Reservation Trust Lands

American Indian trust lands are areas for which the United States holds fee title in trust for the benefit of a tribe (tribal trust land) or for an individual Indian (individual trust land). Trust lands can be alienated or encumbered only by the owner with the approval of the Secretary of the Interior or his/her authorized representative. Trust lands always are associated with a specific federally recognized reservation and/or tribe, and may be located on or off a reservation. The Census Bureau recognizes and tabulates data separately for reservations and for off-reservation trust lands because the tribe has primary governmental authority over these lands. Primary tribal governmental authority generally is not attached to tribal lands located off the reservation until the lands are placed in trust. The Census Bureau does not identify or compile data for other types of off-reservation American Indian lands, such as restricted fee land (land in fee simple status). (The compilation of land ownership information is not within the mission of the Census Bureau.) The Census Bureau collects the boundaries of off-reservation trust lands only where the surface estate is held in trust. It does not collect the boundaries of parcels and/or tracts of land for which only the subsurface estate has been placed in trust. The Census Bureau collects the boundaries of American Indian off-reservation trust lands through its annual BAS. The tribes are required to provide legal documentation to support any and all legal boundary changes since the BIA provided the boundaries to the Census Bureau that reflected the status as of January 1, 1990 for the 1990 census.

The U.S. Census Bureau will identify the off-reservation trust lands with the name submitted and reviewed by the tribal government during the BAS. The trust land name should correspond with the name of the reservation with which it is associated or, if there is no associated reservation, then the name of the tribe for which the land is held. Individual trust lands also must use the name of either a reservation or the individual's tribal government. The Census Bureau will not depict the name of any individual associated with off-reservation individual trust lands.

e. American Indian Tribal Subdivisions

Some American Indian reservations and/or off-reservation trust land areas and some OTSAs have administrative subdivisions variously designated as areas, chapters, communities, districts, and so forth. These entities are internal units of tribal self-government or administration that serve social, cultural, and/or economic purposes for the American Indians on the reservation or OTSA. Federally recognized tribes interested in data from Census 2000 for such administrative entities will be offered the opportunity to delineate these subdivisions only on their land base (reservation, off-reservation trust lands, or OTSA). The Census Bureau can report statistical data for only one administrative level of subdivisions within a reservation, off-reservation trust lands, or OTSA. Tribes that have multiple levels of administrative units should submit the lowest level. If the reservation, off-reservation trust lands, or OTSA are discontiguous, the tribal subdivisions may be discontiguous. The Census Bureau will collect information for American Indian tribal subdivisions in the 2000 BAS and during OTSA boundary review and will verify the information via the Boundary Validation Program and OTSA verification.

The U.S. Census Bureau will identify each tribal subdivision with the name submitted by the tribal government providing the boundary for the area. The tribal subdivision's name should reflect the name legally cited as the name of the subdivision or the name most commonly used for administrative purposes by the tribal government.

2. Changes in the Legal Entity Criteria for Census 2000: Most provisions of the legal entity AIANA criteria remain unchanged from those used in conjunction with the 1990 census, with the few exceptions summarized below.

• The U.S. Census Bureau will contact all federally recognized tribes directly to obtain updates and supporting documentation regarding boundary information and names, in addition to obtaining updated boundary and name information from the BIA.

• American Indian tribal subdivisions are new for Census 2000 in that the Census Bureau did not identify or report data for them in conjunction with the 1990 census. However, they are similar in many respects to the American Indian subreservation areas for which the Census Bureau collected data in the 1980 census. One difference is that the 1980 census subreservation areas sometimes included territory located beyond the reservation and/or off-reservation trust land boundaries, whereas the tribal subdivisions for Census 2000 will not extend beyond the boundaries of reservations, off-reservation trust lands, or OTSAs.

B. Statistical Entity Criteria for Census 2000

1. The U.S. Census Bureau will recognize and tabulate data for the area identified by a tribe or tribes, or by a state liaison (for state recognized tribes), solely for statistical purposes.

a. Statistical Entities Other Than Oklahoma Tribal Statistical Area (OTSAs)

With the exception of the OTSAs, Census 2000 block boundary criteria apply to all AIANAs that are statistical entities. Census 2000 block boundaries should follow visible, perennial, natural and cultural features, such as roads, rivers, canals, railroads, and above-ground, high-tension power lines. Other features acceptable as census block boundaries are the boundaries of:

• Counties and statistically equivalent entities.

• County subdivisions.

• Incorporated places.

• Federally recognized American Indian reservations and/or off-reservation trust lands.

• OTSAs.

• State recognized American Indian reservations.

• Military reservations.

• National parks.

When these features are not available for selection, the Census Bureau, at its discretion, may approve other nonstandard visible features for use as census block boundaries, such as ridge lines, pipelines, intermittent streams, and fence lines. Additionally, the Census Bureau may accept as census block boundaries, on a case-by-case basis, the boundaries of selected nonstandard and potentially nonvisible features, such as the boundaries of local and state parks and forests, cemeteries, other special land use properties, and the straight-line extensions of visible features or other lines-of-sight.

b. Oklahoma Tribal Statistical Areas (OTSAs)

To conform to the boundaries of the former reservations in Oklahoma, OTSA boundaries do not need to follow Census 2000 block boundary criteria.

2. The U.S. Census Bureau will use the following criteria for AIANAs that are statistical entities for Census 2000.

a. Alaska Native Village Statistical Areas (ANVSAs)

An ANVSA represents the concentrated settlement of population within an ANV established as part of the ANCSA of 1972. ANVs have boundaries that are not easy to locate and often include vast areas of land used by Alaska Natives for hunting and fishing. ANVSAs are delineated or reviewed and, if necessary, revised for the purpose of presenting statistical data by officials of the ANV or the ANRC in which the ANV is located. An ANVSA may not overlap the boundary of another ANVSA or an American Indian reservation or TDSA. The Census Bureau will give preference to boundary updates received from an ANV official as long as the boundary meets the boundary criteria outlined above.

The U.S. Census Bureau will identify an ANVSA with the name submitted by the village governing official submitting the boundaries for the area. The ANVSA name should reflect the name of the village identified under ANCSA.

b. State Designated American Indian Statistical Areas (SDAISAs)

The purpose of SDAISAs, a new geographic statistical area established for Census 2000, is to differentiate between state recognized tribes without a land base and tribes recognized by the federal government without a land base. (In 1990, all such tribes were identified as TDSAs). The Census Bureau contacted the governor of each state to determine if that state has state recognized tribes with no land base and to designate a contact for helping the Census Bureau define appropriate geographic areas for these state recognized tribes. There are no minimum population size requirements, but a SDAISA should encompass compact and contiguous areas in which a concentration of people who identify with the tribe reside and in which there is structured or organized tribal activity. Examples of the latter include tribal headquarters buildings or meeting areas, cultural or religious areas of significance, tribal service centers, and tribally owned commercial areas. The SDAISA is not intended to identify all lands once claimed by a particular tribe. A SDAISA may not be located in more than one state, and it may not include area within any reservation, off-reservation trust lands, ANVSA, TDSA, or OTSA. A state liaison identified by the governor will delineate SDAISAs consistent with these criteria.

The U.S. Census Bureau requires that the liaison delineating a SDAISA identify it using the following naming criteria. The name of a SDAISA should reflect one or more of the following: (1) tribes that have significant American Indian population currently residing within the SDAISA; (2) tribes that have historically resided within the SDAISA; and/or (3) the name of tribes commonly associated with the areas encompassed by the SDAISA. The name should not include the name of a tribe if that tribe is specifically identified with another legal or statistical entity.

The selection of a name reasonably identifying a SDAISA is essential because the U.S. Census Bureau's standard statistical tabulations for SDAISAs will provide data only for the total American Indian and Alaska Native populations; data for selected individual tribes within a SDAISA may be available only in response to a request for a special tabulation. For this reason, the data provided as a result of Census 2000 for all AIANA statistical entities will be more meaningful if the entity name provides insight as to which tribes have residents living there today. The Census Bureau will revise the name submitted by the state contact if it is determined that these criteria were not applied properly.

c. Tribal Designated Statistical Areas (TDSAs)

The purpose of TDSAs is to provide data for American Indians recognized by the federal government that do not have a current or, in Oklahoma, a former, legal land base. To be considered for a TDSA, a tribe must be recognized by the federal government. (State recognized tribes can be considered for a SDAISA as described above.) There are no minimum population size requirements, but a TDSA should encompass compact and contiguous areas in which a concentration of people who identify with the tribe reside and in which there is structured or organized tribal activity. Examples of the latter include tribal headquarters buildings or meeting areas, cultural or religious areas of significance, tribal service centers, and tribally owned commercial areas. The TDSA is not intended to identify all lands once claimed by a particular tribe. A TDSA may be located in more than one state, but it may not cross the boundaries of any reservation, off-reservation trust lands, OTSA, ANVSA, or SDAISA. A tribal official will delineate a TDSA that is consistent with these criteria.

The U.S. Census Bureau requires that the tribal government(s) delineating a TDSA identify it using the following naming criteria. The name of a TDSA should reflect one or more of the following: (1) tribes that have significant American Indian population currently residing within the TDSA; (2) tribes that have historically resided within the TDSA; and/or (3) the name of tribes commonly associated with the areas encompassed by the TDSA. The name should not include the name of a tribe if that tribe is specifically identified with another legal or statistical entity.

The selection of a name reasonably identifying the TDSA is essential because the U.S. Census Bureau's standard statistical tabulations for TDSAs will provide data only for the total American Indian and Alaska Native populations; data for selected individual tribes within a TDSA may be available only in response to a request for a special tabulation. For this reason, the data provided as a result of Census 2000 for all AIANA statistical entities will be more meaningful if the entity name provides insight as to which tribes have residents living there today. The Census Bureau will revise the name submitted by the tribal contact if it is determined that these criteria were not applied properly.

d. Oklahoma Tribal Statistical Areas (OTSAs) (Formerly Tribal Jurisdiction Statistical Areas (TJSAs))

The purpose of OTSAs is to provide a geographic frame of reference for tabulating statistical data for American Indians recognized by the federal government that had a former reservation in the state of Oklahoma. To participate in the U.S. Census Bureau's program for updating boundaries of an OTSA, a tribal government must have had a former reservation in Oklahoma and be federally recognized. An OTSA may not include land that is within the boundary of any reservation or off-reservation trust lands reported by the Census Bureau. Although OTSAs are statistical entities, the boundaries reflect former legal reservation boundaries and, therefore, are not required to conform to a visible feature or other acceptable feature criteria. Boundaries for OTSAs will be those delineated for the 1990 census TJSA program, as updated by eligible, participating tribes. Thus, the boundaries of OTSAs will be those of the former reservation according to the treaty, Executive Orders or Secretarial Orders on file as amended in the land records held by the BIA, except where modified by agreements with neighboring tribes for statistical data presentations. These boundary updates must be submitted using a map rather than by written description.

Federally recognized tribes that had a former reservation in Oklahoma can identify the former reservation as an OTSA or, in the alternative, can submit to the Census Bureau the boundaries for their tribal and/or individual off-reservation trust lands. A tribe must choose to identify only one type of American Indian geographic area for the Census Bureau to use in reporting statistical data. If a tribe chooses to identify their trust lands, they will be shown as separate autonomous legal areas whether they are located within or outside the boundary of an OTSA. As requested by the delineating tribes, the Census Bureau will allow the delineation of a joint use area OTSA to represent common or overlapping land area but only if this designation is agreed upon by the tribes that have the former reservation. If the boundaries of the suggested joint use area are disputed, then the Census Bureau will reflect only the boundaries of the former reservation as the OTSA.

Federally recognized tribes that did not have a former reservation in Oklahoma, but that have tribal and/or individual off-reservation trust lands, can identify those trust lands for Census 2000. As noted above, if a tribe chooses to identify their trust lands, they will be shown as separate autonomous legal areas whether they are located within or outside the boundary of an OTSA.

Federally recognized tribes that have neither a former reservation nor tribal and/or individual off-reservation trust lands in Oklahoma are eligible to delineate TDSAs for Census 2000. However, TDSAs cannot include territory that is included within the boundaries of any reservation, off-reservation trust lands, or OTSA.

The U.S. Census Bureau requires that the tribal government(s) delineating an OTSA identify it using the following naming criteria. The name of an OTSA should reflect one or more of the following: (1) Tribes that have significant American Indian population currently residing within the OTSA; (2) tribes that have historically resided within the OTSA; and/or (3) the name of tribes commonly associated with the areas encompassed by the OTSA. The name should not include the name of a tribe if that tribe is specifically identified with another legal or statistical entity.

The selection of a name reasonably identifying the OTSA is essential because the U.S. Census Bureau's standard statistical tabulations for OTSAs will provide data only for the total American Indian and Alaska Native populations; data for selected individual tribes within an OTSA may be available only in response to a request for a special tabulation. For this reason, the data provided as a result of Census 2000 for all AIANA statistical entities will be more meaningful if the entity name provides insight as to which tribes have residents living there today. The Census Bureau will revise the name submitted by the tribal official(s) if it is determined that these criteria were not applied properly.

3. Changes in the Statistical Entity Criteria for Census 2000: Most provisions of the AIANA criteria for statistical entities remain unchanged from those used in conjunction with the 1990 census, with the exceptions summarized below.

• The TDSAs for Census 2000 will apply only to federally recognized tribes. State recognized tribes without a land base, including those that were recognized as TDSAs in the 1990 census, will be identified as SDAISAs, a new geographic entity.

• Alaska Native tribes and/or villages not established as Alaska Native villages under the Alaska Native Claims Settlement Act of 1972 may be delineated as TDSAs if they are recognized by the federal government and do not have a land base.

• For Census 2000, a TDSA may cross a state boundary. For the 1990 census, TDSAs had to be within state boundaries.

• The U.S. Census Bureau has changed the name and clarified the definition of the geographic areas delineated for the 1990 census in Oklahoma that were called tribal jurisdiction statistical areas (TJSAs). For Census 2000, OTSAs are designed to reflect the former reservations in Oklahoma. Because they represent the boundaries of former legal areas, boundaries for OTSAs do not need to meet the visible feature requirements for census block boundaries. The term OTSA replaces the term TJSA used for the 1990 census.

• The U.S. Census Bureau has clarified how each AIANA entity is named for Census 2000.

Dated: June 16, 2000.
Kenneth Prewitt,
Director, Bureau of the Census.

[FR Doc. 00-15806 Filed 6-21-00; 8:45 am]

BILLING CODE 3510-07-P